DEPARTMENT OF HEALTH AND HUMAN SERVICES

Office of the Secretary

Meeting of the National Vaccine Advisory Committee

AGENCY: Department of Health and Human Services, Office of the Secretary.

ACTION: Notice.

SUMMARY: As stipulated by the Federal Advisory Committee Act, the Department of Health and Human Services (DHHS) is hereby giving notice that the National Vaccine Advisory Committee (NVAC) will hold a meeting. The meeting is open to the public.

DATES: The meeting will be held on June 1, 2004, from 9 am to 3:30 pm, and on June 2, 2004, from 9 am to 3:15 pm.

ADDRESSES: Department of Health and Human Services, Hubert H. Humphrey Building, 200 Independence Avenue, Room 705A, SW., Washington, DC 20201.

FOR FURTHER INFORMATION, CONTACT: Ms. Emma English, Program Analyst, National Vaccine Program Office, Department of Health and Human Services, Hubert H. Humphrey Building, 200 Independence Avenue, Room 725H, SW., Washington, DC 20201; (202) 690-5566.

SUPPLEMENTARY INFORMATION: Pursuant to section 2101 of the Public Service Act (42 U.S.C. 300aa-1), the Secretary of Health and Human Services was mandated to establish the National Vaccine Program (NVP) to achieve optimal prevention of human infectious diseases through immunization and to achieve optimal prevention against adverse reactions to vaccines. The Secretary designated the Assistant Secretary for Health to serve as the Director, NVP. The National Vaccine Advisory Committee (NVAC) was established to provide advice and make recommendations to the Director, NVP, on matters related to the program's responsibilities.

Topics to be discussed at the meeting include: Pandemic Influenza and the Pandemic Influenza Response and Preparedness Plan, the NVAC Influenza Working Group's preliminary assessment of domestic influenza issues/needs, and the Institute of Medicine's (IOM) vaccine safety review. Updates will be given on the NVAC Working Group on Public Participation and from the NVAC Vaccine Safety and Communications Subcommittee, the NVAC Futures Vaccines Subcommittee, and the NVAC Immunization Coverage Subcommittee. A tentative agenda will be made available May 20 for review on the NVPO Web site, http://www.dhhs.gov/nvpo.

Public attendance at the meeting is limited to space available. Individuals must provide a photo ID for entry into the Humphrey Building. Individuals who plan to attend and need special assistance, such as sign language interpretation or other reasonable accommodations, should notify the designated contact person. Members of the public will have the opportunity to provide comments at the meeting. Public comment will be limited to five minutes per speaker. Any members of the public who wish to have printed material distributed to NVAC members should submit materials to the Executive Secretary, NVAC, whose contact information is listed above prior to close of business May 25, 2004. Preregistration is required for both public attendance and comment. Any individual who wishes to attend the meeting and/or participate in the public comment session should email nvac@osophs.dhhs.gov.

Dated: May 10, 2004.
Bruce G. Gellin,
Director, National Vaccine Program Office, and Executive Secretary, National Vaccine Advisory Committee.

[FR Doc. 04-11033 Filed 5-14-04; 8:45 am]

BILLING CODE 4150-28-P